ENVIRONMENTAL PROTECTION AGENCY

40 CFR Part 300

[FRL-7818-2]

National Oil and Hazardous Substance Pollution Contingency Plan; National Priorities List

AGENCY: Environmental Protection Agency.

ACTION: Notice of intent for partial deletion of the Centre County Kepone Superfund Site from the National Priorities List.

SUMMARY: The Environmental Protection Agency (EPA), Region III, announces its intent to delete a portion of the Centre County Kepone Superfund Site (the Site), comprising approximately 8 acres to the north of Struble Road (referred to as the “Administration Parcel”), from the National Priorities List (NPL) and requests public comment on this action. The NPL, promulgated pursuant to section 105 of the Comprehensive Environmental Response, Compensation, and Liability Act (CERCLA) of 1980, as amended, is found in Appendix B of 40 CFR part 300, which is the National Oil and Hazardous Substances Pollution Contingency Plan (NCP). The EPA and the Commonwealth of Pennsylvania, through the Pennsylvania Department of Environmental Protection (PADEP), have determined that because no manufacturing operations ever occurred on the Administration Parcel and it is located upgradient from the contaminated portions of the Site, that this portion of the Site may be deleted from the NPL. The partial deletion pertains only to the Administration Parcel of the Site. The other portions of the Site will remain on the NPL, and response actions will continue. This action does not preclude further actions under Superfund.

In the “Rules and Regulations” section of today's Federal Register, EPA is publishing a direct final notice of deletion of the Administration Parcel of the Centre County Kepone Superfund Site without prior notice of intent to delete because EPA views this as a non-controversial revision and anticipates no adverse comment. EPA has explained its reasons for this deletion in the preamble to the direct final deletion. If EPA receives no adverse comment(s) on the direct final notice of deletion, EPA will not take further action on this notice of intent to delete. If EPA receives adverse comment(s), EPA will withdraw the direct final notice of deletion and it will not take effect. EPA will, as appropriate, address all public comments in a subsequent final deletion notice based on this notice of intent to delete. EPA will not institute a second comment period on this notice based on this notice of intent to delete. Any parties interested in commenting must do so at this time. For additional information, see the direct final notice of deletion, which is located in the Rules section of this Federal Register.

DATES: EPA will accept comments until October 27, 2004.

ADDRESSES: Written comments should be addressed to: David Polish, Community Involvement Coordinator, U.S. EPA Region III, Mailcode 3HS43, 1650 Arch Street, Philadelphia, Pennsylvania 19103-2029, (215) 814-3327 or 1-800-553-2509, polish.david@epa.gov.

FOR FURTHER INFORMATION CONTACT: Frank Klanchar, Project Manager, U.S. EPA Region III, Mailcode 3HS22, 1650 Arch Street, Philadelphia, Pennsylvania 19103-2029, (215) 814-3218 or 1-800-438-2474, klanchar.frank@epa.gov.

SUPPLEMENTARY INFORMATION: For additional information, see the Direct Final Notice of Deletion, which is located in the Rules section of this Federal Register.

Information Repositories: Repositories have been established to provide detailed information concerning this decision at the following addresses: U.S. EPA Region III Library, U.S. EPA, Region III, 1650 Arch Street, Philadelphia, Pennsylvania 19103-2029, (215) 814-5000, Monday through Friday 8 a.m. to 12 p.m.; Schlow Memorial Library, 118 South Fraser Street, State College, PA 16801, (814) 237-6236, Monday through Wednesday 9 a.m. to 9 p.m., Thursday 12 p.m. to 9 p.m., Friday 9 a.m. to 6 p.m., Saturday 9 a.m. to 5 p.m., Sunday (during school year) 1:30 p.m. to 5 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: September 14, 2004.
Andrew Carlin,
Acting Regional Administrator, Region III.

[FR Doc. 04-21494 Filed 9-24-04; 8:45 am]

BILLING CODE 6560-50-P